DEPARTMENT OF AGRICULTURE

Submission for OMB Review; Comment Request

January 14, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by February 20, 2014 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: National Animal Health Monitoring System; Cervid 2014 Study.

OMB Control Number: 0579-NEW.

Summary of Collection: Collection and dissemination of animal health data and information is mandated by 7 U.S.C. 391, the Animal Industry Act of 1884, which established the precursor of the Animal and Plant Health Inspection Service (APHIS), Veterinary Services (VS), the Bureau of Animal Industry. Legal requirements for examining and reporting on animal disease control methods were further mandated by 7 U.S.C. 8308 of the Animal Health Protection Act, “Detection, Control, and Eradication of Diseases and Pests,” May 13, 2002. The National Animal Health Monitoring System (NAHMS) will initiate the first national data collection for cervids through the Cervid 2014 study, focusing on cervid operations. The study is designed to fulfill a critical gap in NAHMS' knowledge of the cervid industry.

Need and Use of the Information: APHIS will use the data collected to: (1) Establish national statistics on management and marketing for producers, veterinary, and industry references; (2) Address emerging issues for cervid operations; (3) Plan for response to animal disease events by better understanding the needs and management practices of cervid operations; and (4) Provide input into the design of surveillance systems for specific diseases. If this type of information is not collected, the U.S.' ability to predict likely disease spread scenarios and detect trends in management, production, and health status on cervid operations would be limited.

Description of Respondents: Farms; Individual or households; Business or other for-profit.

Number of Respondents: 3,000.

Frequency of Responses: Reporting: Other: One time.

Total Burden Hours: 990.

Ruth Brown,
Departmental Information Collection Clearance Officer.

[FR Doc. 2014-01029 Filed 1-17-14; 8:45 am]

BILLING CODE 3410-34-P